DEPARTMENT OF THE INTERIOR

Bureau of Land Management

[OR-020-00-1060-PD: GP0-0100]

Notice of Supplementary Rules on Public Land in Oregon

AGENCY: Bureau of Land Management (BLM), Burns District, Oregon, DOI.

ACTION: Supplementary rules for public land within the Three Rivers Resource Area, Burns District, Oregon.

SUMMARY: These supplementary rules will apply to the public land within the Wild Horse Corrals facility in the Three Rivers Resource Area, Burns District, Harney County, Oregon. The supplementary rules are needed to protect the area's wild horses and burros, ensure public health and safety, protect resources from damage, and safeguard government property. The Burns Wild Horse Corrals facility is located west of Hines, Oregon, within Section 6 of Township 24 South, Range 30 East of the Willamette Meridian. The supplementary rules serve to limit entry to the regular working hours of the facility, prevent entry on service roads or cross-country travel. This facility is already closed and the main access road gate locked after regular working hours. This notice enables the BLM to limit access to a sensitive facility.

DATES: These supplementary rules will take effect upon the published date of this notice.

Supplementary Rules for the Burns Wild Horse Corrals Facility

Under 43 CFR 8365.1-6, the BLM will enforce the following rules on the public land within the Burns Wild Horse Corrals facility, Three Rivers Resource Area, Burns District, Oregon. You must follow these rules:

1. You must not enter the facility except during regular business hours of 8:00 a.m. to 3:00 p.m., Monday through Friday, excluding Federal holidays or during an adoption process.

2. You must not enter the facility through any other location other than the main gate located off Highway 20.

3. You must not drive any vehicle anywhere in the facility except along the main entrance road from the entry gate to the public parking lot.

4. You must obey all posted signs.

Exemptions

Persons who are exempt from these rules include any Federal, State or local officer or employee in the scope of their duties, members of any organized rescue or firefighting force in performance of an official duty, and any person authorized in writing by the BLM.

Penalities

On public land, under Section 303(a) of the Federal Land Policy and Management Act of 1976 (43 U.S.C. 1733(a)) and 43 CFR 8360.0-7 any person who violates any of these supplementary rules within the boundaries established in the rules may be tried before a United States Magistrate and fined no more than $1,000 or imprisoned for no more than 12 months, or both. Such violations may also be subject to the enhanced fines provided for by 18 U.S.C. 3571.

FOR FURTHER INFORMATION CONTACT: Cody Hansen, Three Rivers Resource Area Manager, HC 74-12533 Highway 20 West, Hines, Oregon 97738, telephone (541) 573-4400.

Dated: March 17, 2000.
Chuck Wassinger,
Associate, State Director.

[FR Doc. 00-10213 Filed 4-27-00; 8:45 am]

BILLING CODE 4310-33-M